DEPARTMENT OF ENERGY

Federal Energy Regulatory Commission

[Docket No. EL05-71-000]

Mystic Development, LLC, Complainant v. Boston Edison Company and NSTAR Electric & Gas Corporation, Respondents; Notice of Institution of Investigation and Refund Effective Date

May 3, 2005.

On April 29, 2005, the Commission issued an order that initiated an investigation and a trial-type evidentiary hearing under section 206 of the Federal Power Act (FPA). Mystic Development, LLC v. Boston Edison Company and NSTAR Electric & Gas Corporation, 111 FERC ¶ 61,133 (2005).

The refund effective date in Docket No. EL05-71-000, established pursuant to section 206(b) of the FPA, is May 1, 2005.

Magalie R. Salas,
Secretary.

[FR Doc. E5-2247 Filed 5-9-05; 8:45 am]

BILLING CODE 6717-01-P